DEPARTMENT OF HEALTH AND HUMAN SERVICES

Administration for Children and Families

Submission for OMB Review; Comment Request

Title: Study of Early Head Start-Child Care Partnerships.

OMB No.: New Collection.

Description: The Administration for Children and Families (ACF) in the Department of Health and Human Services (HHS) has awarded 275 Early Head Start expansion and Early Head Start-child care partnership grants in 50 states; Washington, DC; Puerto Rico; and the Northern Mariana Islands. These grants will allow new or existing Early Head Start programs to partner with local child care centers and family child care providers to expand high-quality early learning opportunities for infants and toddlers from low-income families.

ACF is proposing to conduct a descriptive study of the new partnership grantees to document the characteristics and features of partnerships and the activities that aim to improve professional development and quality of services and better meet the needs of families. The study will focus on the grantees that have received funds for Early Head Start-child care partnership grants.

The proposed data collection for the descriptive Study of Early Head Start-Child Care Partnerships will include two components: (1) Surveys of 311 partnership grantee and delegate agency directors and a randomly selected sample of 933 child care partners, and (2) in-depth follow-up case studies of 12 purposively selected partnerships.

The goal of this work is to collect descriptive information about partnership grantees and delegate agencies, child care partners, and services and quality improvement activities implemented as part of the partnerships and explore how particular partnership models operate. These data will be used to describe the national landscape of partnerships, fill a knowledge gap about partnership models implemented in the field, lay the groundwork for future research, and provide information to inform technical assistance and actions aimed at informing the Early Head Start-child care partnerships grant initiative.

Respondents: Partnership grantee and delegate agency directors; child care partner managers/owners; partnership staff who focus on coordinating activities among partners, monitoring compliance with the Head Start Program Performance Standards, and providing technical assistance and training; frontline staff; parents; and other state and local stakeholders (such as staff from child care resource and referral agencies or child care subsidy administrators).

Annual Burden Estimates
Instrument | Total number of respondents | Annual number of respondents | Number of responses per respondent | Average burden hours per response | Annual burden hours
1. Partnership grantee and delegate agency director survey | 311 | 156 | 1 | 1 | 156
2. Child care partner survey | 933 | 467 | 1 | 0.50 | 234
3. Interview topic guide:
Partnership grantee and delegate agency directors | 12 | 6 | 1 | 1.5 | 9
Partnership staff | 36 | 18 | 1 | 1 | 18
State and local stakeholders | 48 | 24 | 1 | 1 | 24
4. Parent focus group guide | 96 | 48 | 1 | 1.5 | 72
5. Child care center director focus group guide | 96 | 48 | 1 | 1.5 | 72
6. Child care center teacher focus group guide | 96 | 48 | 1 | 1.5 | 72
7. Family child care provider focus group guide | 48 | 24 | 1 | 1.5 | 36
8. Partnership grantee and delegate agency director questionnaire | 12 | 6 | 1 | 2 | 12
9. Child care partner questionnaire | 180 | 90 | 1 | 0.33 | 30

Estimated Total Annual Burden Hours: 735.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2015-23017 Filed 9-11-15; 8:45 am]

BILLING CODE 4184-01-P